JUDICIAL CONFERENCE OF THE UNITED STATES

Hearing of the Judicial Conference Advisory Committee on Rules of Criminal Procedure

AGENCY: Judicial Conference of the United States.

ACTION: Notice of cancellation of open hearing.

SUMMARY: The public hearing on proposed amendments to the Federal Rules of Criminal Procedure, scheduled for February 2, in San Francisco, California, has been canceled. [Original notice of hearing appeared in the Federal Register of October 2, 2006].

FOR FURTHER INFORMATION CONTACT: John K. Rabiej, Chief, Rules Committee Support Office, Administrative Office of the United States Courts, Washington, DC 20544, telephone (202) 502-1820.

Dated: January 9, 2007.
John K. Rabiej,
Chief, Rules Committee Support Office.

[FR Doc. 07-125 Filed 1-16-07; 8:45 am]

BILLING CODE 2210-55-M